DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2009 Senior Executive Service (SES) Standing Performance Review Boards (PRBs). The purpose of a PRB is to provide fair and impartial review of SES performance appraisals, bonus recommendations and pay adjustments. The PRBs will make recommendations regarding the final performance ratings to be assigned, SES bonuses and/or pay adjustments to be awarded.

FOR FURTHER INFORMATION CONTACT: Rod Markham, Director, Human Resources, Justice Management Division, Department of Justice, Washington, DC 20530; (202) 514-4350.

Lee J. Lofthus,
Assistant Attorney General for Administration.

Name | Position title
Office of the Attorney General—AG
RICHARDSON, MARGARET | COUNSELOR TO THE ATTORNEY GENERAL FOR EXECUTIVE BRANCH RELATIONS.
BIES, JOHN E | COUNSELOR TO THE ATTORNEY GENERAL.
GARLAND, JAMES | DEPUTY CHIEF OF STAFF AND COUNSELOR.
OLSEN, MATTHEW G | EXECUTIVE DIRECTOR.
JEFFRESS, DOROTHY, AMES | COUNSELOR TO THE ATTORNEY GENERAL.
Office of the Deputy Attorney General—DAG
MACBRIDE, NEIL H | ASSOCIATE DEPUTY ATTORNEY GENERAL.
LIBIN, NANCY | CHIEF PRIVACY AND CIVIL LIBERTIES OFFICER.
DELERY, STUART F | CHIEF OF STAFF AND COUNSELOR.
RUEMMLER, KATHYREN H | PRINCIPAL ASSOCIATE DEPUTY ATTORNEY GENERAL.
MARGOLIS, DAVID | ASSOCIATE DEPUTY ATTORNEY GENERAL.
SCHOOLS, SCOTT N | ASSOCIATE DEPUTY ATTORNEY GENERAL.
VERRILLI, DONALD B | ASSOCIATE DEPUTY ATTORNEY GENERAL.
BURROWS, CHARLOTTE | ASSOCIATE DEPUTY ATTORNEY GENERAL.
Office of the Associate Attorney General—OASG
GUERRA, JOSEPH R | PRINCIPAL DEPUTY ASSOCIATE ATTORNEY GENERAL.
MASON, KAROL V | DEPUTY ASSOCIATE ATTORNEY GENERAL.
GREENFELD, HELAINE ANN | DEPUTY ASSOCIATE ATTORNEY GENERAL.
HIRSCH, SAMUEL | DEPUTY ASSOCIATE ATTORNEY GENERAL.
CHUN, A. MARISA | DEPUTY ASSOCIATE ATTORNEY GENERAL.
Office of the Solicitor General—OSG
KATYAL, NEAL K | PRINCIPAL DEPUTY SOLICITOR GENERAL.
STEWART, MALCOLM L | DEPUTY SOLICITOR GENERAL.
DREEBEN, MICHAEL R | DEPUTY SOLICITOR GENERAL.
KNEEDLER, EDWIN S | DEPUTY SOLICITOR GENERAL.
Antitrust Division—ATR
SOVEN, JOSHUA H | CHIEF LITIGATION I SECTION.
O'SULLIVAN, CATHERINE G | CHIEF, APPELLATE SECTION.
HAND, EDWARD T | CHIEF, FOREIGN COMMERCE SECTION.
KRAMER II, J. ROBERT | DIRECTOR OF OPERATIONS.
WATSON, SCOTT M | CHIEF, CLEVELAND FIELD OFFICE.
PRICE JR, MARVIN N | CHIEF, CHICAGO FIELD OFFICE.
WARREN, PHILLIP H | CHIEF SAN FRANCISCO FIELD OFFICE.
CONNOLLY, ROBERT E | CHIEF, PHILADELPHIA FIELD OFFICE.
DAVIS, NEZIDA S | CHIEF, ATLANTA FIELD OFFICE.
CAVANAUGH, WILLIAM F | DEPUTY ASSISTANT ATTORNEY GENERAL.
HAMMOND, SCOTT D | DEPUTY ASSISTANT ATTORNEY GENERAL.
GIORDANO, RALPH T | CHIEF, NEW YORK FIELD OFFICE.
POTTER, ROBERT A | CHIEF, LEGAL POLICY SECTION.
FAMILANT, NORMAN | CHIEF, ECONOMIC LITIGATION SECTION.
HEYER, KENNETH | DIRECTOR OF ECONOMICS.
BOAST, MARY H | DEPUTY ASSISTANT ATTORNEY GENERAL.
PETRIZZI, MARIBETH | CHIEF, LITIGATION II SECTION.
KING, THOMAS D | EXECUTIVE OFFICER.
GOODMAN, NANCY M | CHIEF, TELECOMMUNICATIONS AND MEDIA SECTION.
PHELAN, LISA M | CHIEF, NATIONAL CRIMINAL ENFORCEMENT SECTION.
KURSH, GAIL | DEPUTY CHIEF, LEGAL POLICY SECTION.
TIERNEY, JAMES J | CHIEF, NETWORKS AND TECHNOLOGY ENFORCEMENT SECTION.
Antitrust Division—ATR
READ, JOHN R | CHIEF, LITIGATION III SECTION.
MAJURE, WILLIAM ROBERT | CHIEF, COMPETITION POLICY SECTION.
CURRIE, DUNCAN S | CHIEF, DALLAS FIELD OFFICE.
Bureau of Alcohol, Tobacco, Firearms, and Explosives—ATF
CHAIT, MARK R | DEPUTY ASSISTANT DIRECTOR, FIELD OPERATIONS—CENTRAL.
Bureau of Alcohol, Tobacco, Firearms, and Explosives—ATF
CARROLL, CARSON W | ASSISTANT DIRECTOR, ENFORCEMENT PROGRAM AND SERVICES.
STUCKO, AUDREY M | DEPUTY ASSISTANT DIRECTOR, ENFORCEMENT PROGRAM AND SERVICES.
GODDARD, VALERIE J | DEPUTY ASSISTANT DIRECTOR, TRAINING AND PROFESSIONAL DEVELOPMENT.
LOGAN, MARK | ASSISTANT DIRECTOR, TRAINING AND PROFESSIONAL DEVELOPMENT.
CRENSHAW, KELVIN N | ASSISTANT DIRECTOR, OFFICE OF PROFESSIONAL RESPONSIBILITY AND SECURITY OPERATIONS.
MICHALIC, VIVIAN B | DEPUTY ASSISTANT DIRECTOR, MANAGEMENT.
STINNETT, MELANIE S | ASSISTANT DIRECTOR, MANAGEMENT AND CHIEF FINANCIAL OFFICER.
BELL, WILLIAM L | DEPUTY ASSISTANT DIRECTOR, SCIENCE AND TECHNOLOGY.
ETHRIDGE, MICHAEL W | DIRECTOR, LABORATORY SERVICES.
FICARETTA, TERESA G | DEPUTY CHIEF COUNSEL.
LOOS, ELEANER R | ASSOCIATE CHIEF COUNSEL, ADMINISTRATION AND ETHICS.
MCMAHON JR, WILLIAM G | DEPUTY ASSISTANT DIRECTOR, FIELD OPERATIONS—WEST.
TORRES, JOHN A | SPECIAL AGENT IN CHARGE, LOS ANGELES.
DOMENECH, EDGAR A | SPECIAL AGENT IN CHARGE, WASHINGTON D.C.
WEBB, JAMES D | SPECIAL AGENT IN CHARGE, HOUSTON.
TORRES, JULIE | DEPUTY ASSISTANT DIRECTOR, FIELD OPERATIONS—EAST.
RUBENSTEIN, STEPHEN R | CHIEF COUNSEL.
MASSEY, KENNETH | DEPUTY ASSISTANT DIRECTOR, OFFICE OF PROFESSIONAL RESPONSIBILTY AND SECURITY OPERATIONS.
ZAMMILLO SR, JAMES A | DEPUTY ASSISTANT DIRECTOR, INDUSTRY OPERATIONS.
CAVANAUGH, JAMES M | SPECIAL AGENT IN CHARGE, NASHVILLE.
FORD, WILFRED L | ASSISTANT DIRECTOR, OFFICE OF PUBLIC AND GOVERNMENTAL AFFAIRS.
MARTIN, STEPHEN K | DEPUTY ASSISTANT DIRECTOR, OFFICE OF STRATEGIC INTELLIGENCE AND INFORMATION.
MCDERMOND, JAMES E | ASSISTANT DIRECTOR, OFFICE OF STRATEGIC INTELLIGENCE AND INFORMATION.
COLUCCI, NICHOLAS V | DEPUTY ASSISTANT DIRECTOR, OFFICE OF PUBLIC AND GOVERNMENTAL AFFAIRS.
GANT, GREGORY K | SPECIAL AGENT IN CHARGE, ATLANTA.
ANDERSON, GLENN N | SPECIAL AGENT IN CHARGE, BOSTON.
TRAVER, ANDREW L | SPECIAL AGENT IN CHARGE, CHICAGO.
BOXLER, MICHAEL B | SPECIAL AGENT IN CHARGE, KANSAS CITY.
POTTER, MARK W | SPECIAL AGENT IN CHARGE, PHILADELPHIA.
NEWELL, WILLIAM D | SPECIAL AGENT IN CHARGE, PHOENIX.
HERKINS, STEPHEN C | SPECIAL AGENT IN CHARGE, SAN FRANCISCO.
BARRERA, HUGO J | SPECIAL AGENT IN CHARGE, MIAMI.
GRAHAM, ZEBEDEE T | SPECIAL AGENT IN CHARGE, CHARLOTTE.
BRANDON, THOMAS E | SPECIAL AGENT IN CHARGE, DETROIT.
VIDO, PAUL J | SPECIAL AGENT IN CHARGE, LOUISVILLE.
O'BRIEN, VIRGINIA T | SPECIAL AGENT IN CHARGE, TAMPA.
ZAPOR, BERNARD J | SPECIAL AGENT IN CHARGE, ST PAUL.
HARPER, DAVID G | SPECIAL AGENT IN CHARGE, NEW ORLEANS.
SADOWSKI, CHRISTOPHER P | SPECIAL AGENT IN CHARGE, COLUMBUS.
STOOP, THERESA R | SPECIAL AGENT IN CHARGE, BALTIMORE.
HOOVER, WILLIAM J | ASSISTANT DIRECTOR, FIELD OPERATIONS.
CARTER, RONNIE A | SPECIAL AGENT IN CHARGE, DALLAS.
HORACE, MATTHEW W | SPECIAL AGENT IN CHARGE, NEWARK.
CHASE, RICHARD E | SPECIAL AGENT IN CHARGE, DENVER.
MELSON, KENNETH E | SENIOR POLICY ADVISOR.
Bureau of Prisons—BOP
LAPPIN, HARLEY G | DIRECTOR.
DALIUS, WILLIAM F. JR | ASSISTANT DIRECTOR FOR ADMINISTRATION.
CONLEY, JOYCE K | ASSISTANT DIRECTOR CORRECTIONAL PROGRAMS DIVISION.
KENNEY, KATHLEEN M | ASSISTANT DIRECTOR, OFFICE OF GENERAL COUNSEL.
DODRILL, D. SCOTT | REGIONAL DIRECTOR, NORTHEAST REGION.
HOLT, RAYMOND E | REGIONAL DIRECTOR, SOUTHEAST REGION.
NALLEY, MICHAEL K | REGIONAL DIRECTOR, NORTH CENTRAL REGION.
MCFADDEN, ROBERT E | REGIONAL DIRECTOR, WESTERN REGION.
MALDONADO JR, GERARDO | REGIONAL DIRECTOR, SOUTH CENTRAL REGION.
GRAYER, LOREN A | WARDEN, USP, ATLANTA, GA.
CHESTER, CLAUDE | WARDEN, USP, LEAVENWORTH, KS.
BLEDSOE, BRYAN A | WARDEN, USP, LEWISBURG, PA.
SANDERS, LINDA L | WARDEN, FCC, LOMPOC, CA.
ANDERSON, MARTY C | WARDEN, USMCFP, SPRINGFIELD, MO.
DEWALT, STEPHEN M | WARDEN, FMC, LEXINGTON, KY.
HOLLINGSWORTH, LISA W | WARDEN, USP, MARION, IL.
LAIRD, PAUL A | ASSISTANT DIRECTOR, INDUSTRIES, EDUCATION AND VOCATIONAL TRAINING DIVISION.
MARBERRY, HELEN J | WARDEN, FCC TERRE HAUTE, IN.
THIGPEN SR, MORRIS L | DIRECTOR NATIONAL INSTITUTE OF CORRECTIONS.
REVELL, SARA M | WARDEN, FCC, BUTNER, NC.
EICHENLAUB, LOUIS C | WARDEN, FCI MARIANNA, FL.
LE BLANC JR, WHITNEY I | ASSISTANT DIRECTOR FOR HUMAN RESOURCES MANAGEMENT.
SAMUELS, CHARLES E. JR | SENIOR DEPUTY ASSISTANT DIRECTOR OF CORRECTIONAL PROGRAMS DIVISION.
CHAVEZ, RICARDO E | WARDEN, FCI, PHOENIX, AZ.
JETT, BRIAN R | WARDEN, FMC, ROCHESTER, MN.
WHITE, KIM M | REGIONAL DIRECTOR, MIDDLE ATLANTIC REGION.
KANE, THOMAS R | ASSISTANT DIRECTOR, INFORMATION, POLICY, AND PUBLIC AFFAIRS DIVISION.
REESE, CONSTANCE N | WARDEN, FCI, TALLADEGA, AL.
GRONDOLSKY, JEFF F | WARDEN, FCI, FORT DIX, NJ.
DAVIS, BLAKE R | WARDEN, USP, HIGH, FLORENCE, CO.
WILEY, RONNIE | WARDEN, FCC, FLORENCE, CO.
YOUNG JR, JOSEPH P | WARDEN, FCC, OAKDALE, LA.
CHAPMAN, W. ELANIE | WARDEN, FMC, CARSWELL, TX.
MARTINEZ, RICARDO | WARDEN, FCC, ALLENWOOD, PA.
KASTNER, PAUL A | WARDEN, FTC, OKLAHOMA CITY, OK.
RATHMAN, JOHN T | WARDEN, FDC, MIAMI, FL.
SCHULTZ, PAUL M | WARDEN, FCI, FAIRTON, NJ.
ADAMS, VANESSA P | SENIOR DEPUTY ASSISTANT DIRECTOR PROGRAM REVIEW DIVISION.
MITCHELL, MARY M | WARDEN, FCI, EDGEFIELD, SC.
SABOL, CAROLYN ANN | WARDEN, FMC, DEVENS, MA.
BENOV, MICHAEL L | WARDEN, MDC, LOS ANGELES, CA.
FOX, JOHN B | WARDEN, FCC, BEAUMONT, TX.
HASTINGS, SUZANNE R | SENIOR DEPUTY ASSISTANT DIRECTOR, CORRECTIONAL PROGRAMS DIVISION.
BEUSSE, ROBIN LITMAN | SENIOR DEPUTY ASSISTANT DIRECTOR FOR ADMINISTRATION.
LINDSAY, CAMERON K | WARDEN, MDC, BROOKLYN, NY.
KEFFER, JOSEPH E | WARDEN, USP, POLLUCK, LA.
BERKEBILE, DAVID W | WARDEN, FCI, BECKLEY, WV.
HICKEY, DEBORAH A | WARDEN, FCI, JESUP, GA.
KILLIAN, JANICE M | WARDEN, FCI, OTISVILLE, NY.
TERRELL, DUDLEY J | WARDEN, MCC, NEW YORK, NY.
RIOS JR., HECTOR | WARDEN, USP, ATWATER, CA.
DREW, DARRYL | WARDEN, FCC, COLEMAN, FL.
Bureau of Prisons—BOP
O'BRIEN, TERENCE T | WARDEN, USP, LEE, VA.
KENDALL, PAUL F | SENIOR COUNSEL.
STANSBERRY, PATRICIA R | WARDEN, FCC, PETERSBURG, VA.
ZUERCHER, JEROME C | WARDEN, USP, BIG SANDY, KY.
NORWOOD, JOSEPH L | WARDEN, FCC, VICTORVILLE, CA.
WILSON, ERIC D | WARDEN, USP, MCCREARY, KY.
CROSS JR, JAMES | WARDEN, USP, HAZELTON, WV.
PEARSON, BRUCE A | WARDEN, FCC, YAZOO CITY, MS.
HOLT, RONNIE R | WARDEN, USP, CANAAN, PA.
OUTLAW, TIMOTHY C | WARDEN, FCC, FORREST CITY, AR.
JOHNS, TRACY W | WARDEN, FCI, MEDIUM-I, BUTNER, NC.
MIDDLEBROOKS, SCOTT A | WARDEN, USP, COLEMAN-I, COLEMAN, FL.
APKER JR, LIONEL C | WARDEN, USP, TUCSON, AZ.
WHITEHEAD, JIMMY D | WARDEN, FCI, CUMBERLAND, MD.
RIVERA, MILDRED | WARDEN, FCI, ESTILL, SC.
SHERROD, WILLIAM A | WARDEN, FCI, GREENVILLE, IL.
QUINTANA, FRANCISCO J | WARDEN, FCI, MCKEAN, PA.
HOLINKA-WURDEMAN, CAROL J | WARDEN, FCI, OXFORD, WI.
SMITH, DENNIS R | WARDEN, FCI, PEKIN, IL.
SNIEZEK, THOMAS R | WARDEN, FCI, SCHUYLKILL, PA.
JOSLIN, DANIEL M | WARDEN, FCI, THREE RIVERS, TX.
HAYES, ANTHONY | WARDEN, MDC, GUAYNABO, PUERTO RICO.
CASTILLO, JUAN D | WARDEN, FCI, MEMPHIS, TN.
THOMAS, JEFFREY E | WARDEN, FCI, SHERIDAN, OR.
DEBOO, KUMA J | WARDEN, FCI, GILMER, WV.
HOGSTEN, KAREN F | WARDEN, FCI, MANCHESTER, KY.
DREW, DARLENE | WARDEN, FCI, BENNETTSVILLE, SC.
LEDEZMA, HECTOR A | WARDEN, FCI, EL RENO, OK.
OWEN, JOHN R | WARDEN, FCI, WILLIAMSBURG, SC.
SCHULT, DEBORAH G | WARDEN, FCI, RAY BROOK, NY.
IVES, RICHARD B | WARDEN, FCI, HERLONG, CA.
Civil Division—CIV
COPPOLINO, ANTHONY J | SPECIAL LITIGATION COUNSEL.
RIVERA, JENNIFER D | BRANCH DIRECTOR.
KOPP, ROBERT E | DIRECTOR, APPELLATE STAFF.
DAVIDSON, JEANNE E | DIRECTOR, COMMERCIAL LITIGATION BRANCH.
HUNT, JOSEPH H | BRANCH DIRECTOR.
BRANDA, JOYCE R | DIRECTOR, COMMERCIAL LITIGATION BRANCH.
KOHN, J. CHRISTOPHER | DIRECTOR, COMMERCIAL LITIGATION BRANCH.
PYLES, PHYLLIS J | DIRECTOR, FEDERAL TORT CLAIMS ACT SECTION.
FARGO, JOHN J | DIRECTOR, COMMERCIAL LITIGATION BRANCH.
GARREN, TIMOTHY PATRICK | DIRECTOR, CONSTITUTIONAL AND SPECIALIZED TORT LITIGATION SECTION.
FROST, PETER F | DIRECTOR, AVIATION AND ADMIRALTY SECTION.
BAXTER, FELIX V | BRANCH DIRECTOR.
HOLLIS, ROBERT MARK | DIRECTOR, COMMERCIAL LITIGATION BRANCH.
O'MALLEY, BARBARA B | SPECIAL LITIGATION COUNSEL, AVIATION AND ADMIRALTY SECTION.
SHAPIRO, ELIZABETH J | DEPUTY BRANCH DIRECTOR.
HERTZ, MICHAEL F | DEPUTY ASSISTANT ATTORNEY GENERAL.
RAVEL, ANN MILLER | DEPUTY ASSISTANT ATTORNEY GENERAL.
BRUEN JR, JAMES G | SPECIAL LITIGATION COUNSEL.
HUSSEY, THOMAS W | DIRECTOR, APPELLATE LITIGATION.
GLYNN, JOHN PATRICK | DIRECTOR, ENVIRONMENTAL TORT LITIGATION SECTION.
KIRSCHMAN JR., ROBERT E | DEPUTY DIRECTOR, COMMERCIAL LITIGATION BRANCH.
GARVEY, VINCENT MORGAN | DEPUTY BRANCH DIRECTOR.
ZWICK, KENNETH L | DIRECTOR, OFFICE OF MANAGEMENT PROGRAMS.
Civil Division—CIV
GRANSTON, MICHAEL D | DEPUTY DIRECTOR, COMMERCIAL LITIGATION BRANCH.
LIEBER, SHEILA M | DEPUTY BRANCH DIRECTOR.
THIROLF, EUGENE M | DIRECTOR, OFFICE OF CONSUMER LITIGATION.
LETTER, DOUGLAS N | APPELLATE LITIGATION COUNSEL.
STERN, MARK B | APPELLATE LITIGATION COUNSEL.
GERSHENGORN, IAN H | DEPUTY ASSISTANT ATTORNEY GENERAL.
SNEE, BRYANT G | DEPUTY DIRECTOR, COMMERCIAL LITIGATION BRANCH.
KANTER, WILLIAM G | DEPUTY DIRECTOR, APPELLATE STAFF.
MCCONNELL, DAVID M | DEPUTY DIRECTOR, APPELLATE SECTION.
BRINKMANN, BETH S | DEPUTY ASSISTANT ATTORNEY GENERAL.
KLINE, DAVID J | DIRECTOR, FEDERAL DISTRICT COURT SECTION.
ANDERSON, DANIEL R | DEPUTY DIRECTOR, COMMERCIAL LITIGATION BRANCH.
Civil Rights Division—CRT
GADZICHOWSKI, JOHN M | CHIEF, EMPLOYMENT LITIGATION SECTION.
FLYNN, DIANA KATHERINE | CHIEF, APPELLATE SECTION.
KAPPELHOFF, MARK JOHN | CHIEF, CRIMINAL SECTION.
ROSENBAUM, STEVEN H | CHIEF, HOUSING AND CIVIL ENFORCEMENT SECTION.
COATES, HARRY CHRISTOPHER | CHIEF, VOTING SECTION.
GLASSMAN, JEREMIAH | CHIEF, EDUCATIONAL OPPORTUNITIES SECTION.
BROWN-CUTLAR, SHANETTA Y | CHIEF, SPECIAL LITIGATION SECTION.
WODATCH, JOHN L | CHIEF, DISABILITY RIGHTS SECTION.
KING, LORETTA | DEPUTY ASSISTANT ATTORNEY GENERAL.
SAMUELS, JOCELYN | COUNSELOR TO THE ASSISTANT ATTORNEY GENERAL.
FRIEDLANDER, MERRILY A | CHIEF, COORDINATION AND REVIEW SECTION.
GREENE, IRVA D | EXECUTIVE OFFICER.
BALDWIN, KATHERINE A | DEPUTY SPECIAL COUNSEL FOR IMMIGRATION-RELATED UNFAIR EMPLOYMENT PRACTICES.
GINSBURG, JESSICA A | COUNSEL TO THE ASSISTANT ATTORNEY GENERAL.
Criminal Division—CRM
ROGERS, RICHARD M | SENIOR COUNSEL.
NASH, STUART G | DIRECTOR, ORGANIZED CRIME, DRUG ENFORCEMENT TASK FORCE.
OHR, BRUCE G | CHIEF, ORGANIZED CRIME AND RACKETEERING SECTION.
STEMLER, PATTY MERKAMP | CHIEF, APPELLATE SECTION.
WELCH II, WILLIAM M | CHIEF, PUBLIC INTEGRITY SECTION.
O'BRIEN, PAUL M | CHIEF, NARCOTIC AND DANGEROUS DRUG SECTION.
WEINSTEIN, JASON | DEPUTY ASSISTANT ATTORNEY GENERAL.
KEENEY, JOHN C | DEPUTY ASSISTANT ATTORNEY GENERAL.
SWARTZ, BRUCE CARLTON | DEPUTY ASSISTANT ATTORNEY GENERAL.
WARLOW, MARY ELLEN | DIRECTOR, OFFICE OF INTERNATIONAL AFFAIRS.
PELLETIER, PAUL E | DEPUTY CHIEF FOR LITIGATION.
WEBER, RICHARD M | CHIEF, ASSET FORFEITURE AND MONEY LAUNDERING SECTION.
MORRIS, BRENDA K | DEPUTY CHIEF, PUBLIC INTEGRITY SECTION.
GRINDLER, GARY G | DEPUTY ASSISTANT ATTORNEY GENERAL.
GLAZER, SIDNEY | SENIOR APPELLATE COUNSEL.
PARENT, STEVEN J | EXECUTIVE OFFICER.
KILLION, MAUREEN H | DIRECTOR, OFFICE OF ENFORCEMENT OPERATIONS.
ROBINSON, STEWART C | DEPUTY DIRECTOR, OFFICE OF INTERNATIONAL AFFAIRS.
BLANCO, KENNETH A | DEPUTY ASSISTANT ATTORNEY GENERAL.
WROBLEWSKI, JONATHAN J | DIRECTOR, OFFICE OF POLICY AND LEGISLATION.
AINSWORTH, PETER J | SENIOR DEPUTY CHIEF, PUBLIC INTEGRITY SECTION.
OOSTERBAAN, ANDREW | CHIEF, CHILD EXPLOITATION AND OBSCENITY SECTION.
ROSENBAUM, ELI M | DIRECTOR, OFFICE OF SPECIAL INVESTIGATIONS.
PAINTER, CHRISTOPHER M | DEPUTY CHIEF, COMPUTER CRIME AND INTELLECTUAL PROPERTY SECTION.
Criminal Division—CRM
TREVILLIAN IV, ROBERT C | DIRECTOR, INTERNATIONAL CRIMINAL INVESTIGATIVE TRAINING ASSISTANCE PROGRAM.
REYNOLDS, JAMES S | SENIOR COUNSEL.
RAABE, WAYNE C | DEPUTY CHIEF, NARCOTIC AND DANGEROUS DRUG SECTION.
ALEXANDRE, CARL | DIRECTOR, OPDAT.
DUBOSE, MICHAEL M | CHIEF, COMPUTER CRIME, AND INTELLECTUAL PROPERTY SECTION.
MCHENRY, TERESA L | CHIEF, DOMESTIC SECURITY SECTION.
FAGELL, STEVEN E | COUNSELOR TO THE ASSISTANT ATTORNEY GENERAL.
TYRRELL, STEVEN A | CHIEF, FRAUD SECTION.
JOSEPH, LESTER M | DEPUTY CHIEF, ASSET FORFEITURE AND MONEY LAUNDERING SECTION.
CARWILE, P. KEVIN | CHIEF, GANG SQUAD.
PADDEN, THOMAS WILLIAM | DEPUTY DIRECTOR, ORGANIZED CRIME, DRUG ENFORCEMENT TASK FORCE.
Environmental and Natural Resources Division—ENRD
RANDALL, GARY B | DEPUTY CHIEF, NATURAL RESOURCES SECTION.
HAUGRUD, K. JACK | CHIEF, NATURAL RESOURCES SECTION.
BUTLER, VIRGINIA P | CHIEF, LAND ACQUISITION SECTION.
KILBOURNE, JAMES C | CHIEF, APPELLATE SECTION.
ALEXANDER, S. CRAIG | CHIEF, INDIAN RESOURCES SECTION.
GRISHAW, LETITIA J | CHIEF, ENVIRONMENTAL DEFENSE SECTION.
DISHEROON, FRED R | SENIOR LITIGATION COUNSEL ATTORNEY EXAMINER.
MILIUS, PAULINE H | CHIEF, LAW AND POLICY SECTION.
CRUDEN, JOHN C | DEPUTY ASSISTANT ATTORNEY GENERAL.
WILLIAMS, JEAN E | CHIEF, WILDLIFE AND MARINE RESOURCES.
FISHEROW, W. BENJAMIN | DEPUTY CHIEF, ENVIRONMENTAL ENFORCEMENT SECTION.
MITCHELL, STACEY H | CHIEF, ENVIRONMENTAL CRIMES SECTION.
GELBER, BRUCE S | CHIEF, ENVIRONMENTAL ENFORCEMENT SECTION.
STEWART, HOWARD P | SENIOR LITIGATION COUNSEL.
SOBECK, EILEEN | DEPUTY ASSISTANT ATTORNEY GENERAL.
BRUFFY, ROBERT L | EXECUTIVE OFFICER.
MAHAN, ELLEN M | DEPUTY CHIEF, ENVIRONMENTAL ENFORCEMENT SECTION.
CLARK II, TOM C | DEPUTY CHIEF, NATURAL RESOURCES SECTION.
VADEN, CHRISTOPHER S | DEPUTY CHIEF, ENVIRONMENTAL DEFENSE SECTION.
Executive Office for Immigration Review—EOIR
OSUNA, JUAN P | CHAIRMAN, BOARD OF IMMIGRATION APPEALS.
NASCA, PAULA N | ASSOCIATE DIRECTOR.
CREPPY, MICHAEL J | CHIEF ADMINISTRATIVE HEARING OFFICER.
O'LEARY, BRIAN M | CHIEF IMMIGRATION JUDGE.
NEAL, DAVID | VICE CHAIRMAN, BOARD OF IMMIGRATION APPEALS.
Executive Office for U.S. Attorneys—EOUSA
BAILIE, MICHAEL W | DIRECTOR, OFFICE OF LEGAL EDUCATION.
BEVELS, LISA A | DEPUTY DIRECTOR FINANCIAL MANAGEMENT.
FLESHMAN, JAMES MARK | CHIEF INFORMATION OFFICER.
WONG, NORMAN Y | COUNSELOR TO THE DIRECTOR.
JARRETT, HOWARD MARSHALL | DIRECTOR.
MACKLIN, JAMES | GENERAL COUNSEL.
VILLEGAS, DANIEL A | COUNSEL, LEGAL PROGAMS AND POLICY.
Executive Office for U.S. Trustees—EOUST
WHITE III, CLIFFORD J | DIRECTOR.
REDMILES, MARK A | PRINCIPAL DEPUTY DIRECTOR.
MILLER, JEFFREY M | ASSOCIATE DIRECTOR.
Justice Management Division—JMD
OLSON, ERIC R | DEPUTY, CHIEF INFORMATION OFFICER FOR E-GOVERNMENT SERVICES STAFF.
MURRAY, JOHN W | DIRECTOR, ENTERPRISE SOLUTIONS STAFF.
DEELEY, KEVIN | DEPUTY CHIEF INFORMATION OFFICER FOR IT SECURITY.
Justice Management Division—JMD
BEASLEY, ROGER | DIRECTOR, OPERATION SERVICES STAFF.
HOLTGREWE, KENT L | DIRECTOR, IT POLICY AND PLANNING STAFF.
ALLEN, MICHAEL H | DEPUTY ASSISTANT ATTORNEY GENERAL FOR POLICY, MANAGEMENT, AND PLANNING, AND CHIEF OF STAFF.
MARKHAM, ROD E | DIRECTOR, HUMAN RESOURCES.
DUNLAP, JAMES L | DIRECTOR, SECURITY AND EMERGENCY PLANNING STAFF.
MORGAN, MELINDA B | DIRECTOR, FINANCE STAFF.
LAURIA-SULLENS, JOLENE A | DEPUTY ASSISTANT ATTORNEY GENERAL/CONTROLLER.
SANTANGELO, MARI BARR | DEPUTY ASSISTANT ATTORNEY GENERAL FOR HUMAN RESOURCES AND ADMINISTRATION (CHCO).
DESSY, BLANE K | DIRECTOR, LIBRARY STAFF.
HAMILTON, EDWARD A | DIRECTOR, FACILITIES AND ADMINISTRATIVE SERVICES STAFF.
OLDS, CANDACE A | DIRECTOR, ASSET FORFEITURE MANAGEMENT STAFF.
DEFALAISE, LOUIS | DIRECTOR, OFFICE OF ATTORNEY RECRUITMENT AND MANAGEMENT.
ORR, DAVID MARSHALL | DIRECTOR, MANAGEMENT AND PLANNING STAFF.
O'LEARY, KARIN | DIRECTOR, BUDGET STAFF.
HITCH, VANCE E | DEPUTY ASSISTANT ATTORNEY GENERAL/CHIEF INFORMATION OFFICER.
JOHNSTON, JAMES W | DIRECTOR, PROCUREMENT SERVICES STAFF.
FRISCH, STUART | GENERAL COUNSEL.
FROST-TUCKER, VONTELL D | DIRECTOR, EQUAL EMPLOYMENT OPPORTUNITY STAFF.
SCHULTZ JR, WALTER H | DEPUTY DIRECTOR, BUDGET STAFF, OPERATIONS AND FUNDS CONTROL.
ATSATT, MARILYNN B | DEPUTY DIRECTOR, BUDGET STAFF, PROGRAMS AND PERFORMANCE.
ALVAREZ, CHRISTOPHER C | DEPUTY DIRECTOR (AUDITING), FINANCE STAFF.
NORRIS, J. TREVOR | DEPUTY DIRECTOR, HUMAN RESOURCES.
RODGERS, JANICE M | DIRECTOR, DEPARTMENTAL ETHICS OFFICE.
National Drug Intelligence Center—NDIC
WALTHER, MICHAEL F | DIRECTOR, NATIONAL DRUG INTELLIGENCE CENTER.
National Security Division—NSD
DION, JOHN J | CHIEF, COUNTERESPIONAGE SECTION.
BRADLEY, MARK A | SPECIAL COUNSEL FOR OVERSIGHT SECTION.
KEEGAN, MICHAEL | DEPUTY CHIEF, COUNTERTERRORISM SECTION.
HINNEN, TODD | DEPUTY ASSISTANT ATTORNEY GENERAL.
WALTER, SHERYL L | EXECUTIVE OFFICER.
MULLANEY, MICHAEL J | CHIEF, COUNTERTERRORISM SECTION.
GAUHAR, TASHINA | CHIEF, OPERATIONS SECTION.
KENNEDY, J. LIONEL | SPECIAL COUNSEL FOR NATIONAL SECURITY.
PELAK, STEVEN W | DEPUTY CHIEF, COUNTERESPIONAGE SECTION.
STEELE, CHARLES M | SPECIAL COUNSEL TO THE AAG.
Office of Information and Privacy—OIP
PUSTAY, MELANIE ANN | DIRECTOR.
Office of Inspector General—OIG
ROBINSON, GAIL A | GENERAL COUNSEL.
GULLEDGE, MICHAEL D | ASSISTANT INSPECTOR GENERAL EVALUATION AND INSPECTIONS.
BEAUDET, RAYMOND J | ASSISTANT INSPECTOR GENERAL FOR AUDIT.
MCLAUGHLIN, THOMAS F | ASSISTANT INSPECTOR GENERAL FOR INVESTIGATIONS.
PETERS, GREGORY T | ASSISTANT INSPECTOR GENERAL FOR MANAGEMENT & PLANNING.
MARTIN, PAUL K | DEPUTY INSPECTOR GENERAL.
FORTINE OCHOA, CAROL A | ASSISTANT INSPECTOR GENERAL FOR OVERSIGHT & REVIEW.
Office of Inspector General—OIG
MARSKE, CARYN A | DEPUTY ASSISTANT INSPECTOR GENERAL FOR AUDIT.
DORSETT, GEORGE L | DEPUTY ASSISTANT INSPECTOR GENERAL FOR INVESTIGATIONS.
Office of Intergovernmental and Public Liaison—OIPL
ROBERSON, PORTIA L | DIRECTOR.
Office of Justice Programs—OJP
IWANOW, WALTER | CHIEF INFORMATION OFFICER.
GARRY, EILEEN M | DEPUTY DIRECTOR FOR PROGRAMS, BUREAU OF JUSTICE ASSISTANCE.
SINCLAIR, MICHAEL D | DEPUTY DIRECTOR, BUREAU OF JUSTICE STATISTICS.
FEUCHT, THOMAS E | EXECUTIVE SCIENCE ADVISOR, NATIONAL INSTITUTE OF JUSTICE.
MERKLE, PHILLIP | DIRECTOR, OFFICE OF ADMINISTRATION.
MADAN, RAFAEL A | GENERAL COUNSEL.
PAULL, MARCIA K | CHIEF FINANCIAL OFFICER.
BURCH II, JAMES H | DEPUTY DIRECTOR, POLICY AND MANAGEMENT, BUREAU OF JUSTICE PROGRAMS.
ROBINSON, LAUREL | PRINCIPAL DEPUTY ASSISTANT ATTORNEY GENERAL.
ROBERTS, MARILYN M | DEPUTY ADMINISTRATOR, OJJDP.
AYERS, NANCY LYNN | DEPUTY ADMINISTRATOR FOR POLICY, OJJDP.
GREENHOUSE, DENNIS E | DIRECTOR, COMMUNITY CAPACITY DEVELOPMENT OFFICE.
MORGAN, JOHN S | ASSISTANT DIRECTOR, NATIONAL INSTITUTE OF JUSTICE, OFFICE OF SCIENCE AND TECHNOLOGY.
GREENFELD, LAWRENCE A | DEPUTY DIRECTOR, PLANNING, BUREAU OF JUSTICE ASSISTANCE.
MCGARRY, BETH | DEPUTY ASSISTANT ATTORNEY GENERAL, OPERATIONS MANAGEMENT.
BALDWIN, LINDA | SMART COORDINATOR.
BENDA, BONNIE LEIGH | DEPUTY, CHIEF FINANCIAL OFFICER.
HENNEBERG, MAUREEN A | DIRECTOR, OFFICE OF AUDIT, ASSESSMENT, AND MANAGEMENT.
Office of Legal Counsel—OLC
RHEE, JEANNIE S | DEPUTY ASSISTANT ATTORNEY GENERAL.
KOFFSKY, DANIEL L | DEPUTY ASSISTANT ATTORNEY GENERAL.
LEDERMAN, MARTIN | DEPUTY ASSISTANT ATTORNEY GENERAL.
HART, ROSEMARY A | SPECIAL COUNSEL.
COLBORN, PAUL P | SPECIAL COUNSEL.
BARRON, DAVID | PRINCIPAL DEPUTY ASSISTANT ATTORNEY GENERAL.
CEDARBAUM, JONATHAN | DEPUTY ASSISTANT ATTORNEY GENERAL.
Office of Legal Policy—OLP
JONES, KEVIN ROBERT | DEPUTY ASSISTANT ATTORNEY GENERAL.
THIEMANN, ROBYN L | DEPUTY ASSISTANT ATTORNEY GENERAL.
OVERTON, SPENCER | PRINCIPAL DEPUTY ASSISTANT ATTORNEY GENERAL.
DE, RAJESH | DEPUTY ASSISTANT ATTORNEY GENERAL.
MEYER, JONATHAN E | DEPUTY ASSISTANT ATTORNEY GENERAL.
Office of Legislative Affairs—OLA
AGRAST, MARK D | DEPUTY ASSISTANT ATTORNEY GENERAL.
BURTON, M. FAITH | SPECIAL COUNSEL.
APPELBAUM, JUDITH C | DEPUTY ASSISTANT ATTORNEY GENERAL.
Office of Professional Responsibility—OPR
WISH, JUDITH B | DEPUTY COUNSEL ON PROF RESPONSIBILITY.
Office of Public Affairs—PAO
MILLER, MATTHEW A | DIRECTOR.
Office of the Federal Detention Trustee—OFDT
HYLTON, STACIA A | FEDERAL DETENTION TRUSTEE.
Office of the Pardon Attorney—OPA
RODGERS, RONALD L | PARDON ATTORNEY.
Professional Responsibility Advisory Office—PRAO
DUNSTON, JERRI U | DIRECTOR.
Tax Division—TAX
ROTHENBERG, GILBERT S | CHIEF, APPELLATE SECTION.
FRAHM, STEVEN L | CHIEF, CLAIMS COURT SECTION.
HEALD, SETH G | CHIEF, CIVIL TRIAL SECTION, CENTRAL REGION.
Tax Division—TAX
MULLARKEY, DANIEL P | CHIEF, CIVIL TRIAL SECTION, NORTHERN REGION.
KEARNS, MICHAEL J | CHIEF, CIVIL TRIAL SECTION, SOUTHERN REGION.
WARD, RICHARD | CHIEF, CIVIL TRIAL SECTION, WESTERN REGION.
SHATZ, EILEEN M | SPECIAL LITIGATION COUNSEL.
DONOHUE, DENNIS M | SENIOR LITIGATION COUNSEL.
SALAD, BRUCE M | CHIEF, CRIMINAL ENFORCEMENT SECTION, SOUTHERN REGION.
PAGUNI, ROSEMARY E | CHIEF, CRIMINAL ENFORCEMENT SECTION, NORTHERN REGION.
DICICCO, JOHN | DEPUTY ASSISTANT ATTORNEY GENERAL.
CIMINO, RONALD ALLEN | CHIEF, CRIMINAL ENFORCEMENT SECTION, WESTERN REGION.
MELAND, DEBORAH | CHIEF, OFFICE OF REVIEW.
HYTKEN, LOUISE P | CHIEF, CIVIL TRIAL SECTION, SOUTHWESTERN REGION.
HUBBERT, DAVID A | CHIEF, CIVIL TRIAL SECTION, EASTERN REGION.
YOUNG, JOSEPH E | EXECUTIVE OFFICER.
HECHTKOPF, ALAN | CHIEF, CRIMINAL APPEALS AND TAX ENFORCEMENT POLICY SECTION.
U.S. Marshals Service—USMS
DOLAN, EDWARD | SPECIAL ASSISTANT FOR FINANCIAL SYSTEMS.
CALLAGHAN, DARLA KAY | ASSISTANT DIRECTOR, HUMAN RESOURCES.
JONES, SYLVESTER E | ASSISTANT DIRECTOR, WITNESS SECURITY.
DONOVAN, DONALD S | ASSISTANT DIRECTOR, MANAGEMENT SUPPORT.
PEARSON, MICHAEL A | ASSISTANT DIRECTOR, ASSET FORFEITURE.
SYMONDS, CANDRA S | ASSISTANT DIRECTOR, PRISONER OPERATIONS.
EARP, THOMAS M | ASSISTANT DIRECTOR, INVESTIGATIVE OPERATIONS.
PROUT, MICHAEL J | ASSISTANT DIRECTOR, JUDICIAL SECURITY.
FARMER, MARC A | ASSISTANT DIRECTOR, TRAINING.
AUERBACH, GERALD | GENERAL COUNSEL.
ROLSTAD, SCOTT C | ASSISTANT DIRECTOR FOR JUSTICE PRISONER AND ALIEN TRANSPORTATION SYSTEM (JPATS).
DAVIS, LISA M | ASSISTANT DIRECTOR, INFORMATION TECHNOLOGY.
FINAN II, ROBERT J | ASSOCIATE DIRECTOR, OPERATIONS.
DUDLEY, CHARLES C | ASSOCIATE DIRECTOR, ADMINISTRATION.
SNELSON, WILLIAM D | ASSISTANT DIRECTOR, TACTICAL OPERATIONS.

[FR Doc. E9-19460 Filed 8-12-09; 8:45 am]

BILLING CODE 4410-AR-P